FEDERAL COMMUNICATIONS COMMISSION

[OIA Docket No. 24-30; DA 25-465; FR ID 297919]

Informal Working Group 1 (IWG-1), Informal Working Group 2 (IWG-2), Informal Working Group 3 (IWG-3), and Informal Working Group 4 (IWG-4) of the 2027 World Radiocommunication Conference Advisory Committee (WRC-27 Advisory Committee) Schedule Their Meetings

AGENCY: Federal Communications Commission.

ACTION: Notice.

SUMMARY: This notice advises interested persons that Informal Working Group 1 (IWG-1), Informal Working Group 2 (IWG-2), Informal Working Group 3 (IWG-3), and Informal Working Group 4 (IWG-4) of the 2027 World Radiocommunication Conference Advisory Committee (WRC-27 Advisory Committee) have scheduled meetings as set forth below. The meetings are open to the public.

DATES:

25 June 2025 IWG-4 11:00 a.m. ET-1:00 p.m. ET

25 June 2025 IWG-3 2:00 p.m. ET-4:00 p.m. ET

1 July 2025 IWG-4 11:00 a.m. ET-1:00 p.m. ET

1 July 2025 IWG-3 2:00 p.m. ET-4:00 p.m. ET

15 July 2025 IWG-4 11:00 a.m. ET-1:00 p.m. ET

15 July 2025 IWG-3 2:00 p.m. ET-4:00 p.m. ET

23 July 2025 IWG-1 11:00 a.m. ET-1:00 p.m. ET

23 July 2025 IWG-2 1:00 p.m. ET-2:00 p.m. ET

29 July 2025 IWG-4 11:00 a.m. ET-1:00 p.m. ET

29 July 2025 IWG-3 2:00 p.m. ET-4:00 p.m. ET

ADDRESSES: The meetings will be held virtually.

FOR FURTHER INFORMATION CONTACT: Gregory Baker, Designated Federal Official, World Radiocommunication Conference Advisory Committee, FCC Office of International Affairs, Global Strategy and Negotiation Division, at Gregory.Baker@fcc.gov, (202) 919-0758 or WRC-27@fcc.gov.

SUPPLEMENTARY INFORMATION: The FCC established the Advisory Committee to provide advice, technical support and recommendations relating to the preparation of United States proposals and positions for the 2027 World Radiocommunication Conference (WRC-27).

In accordance with the Federal Advisory Committee Act, Public Law 92-463, as amended, this notice advises interested persons of the IWG-1, IWG-2, IWG-3 and IWG-4 of the WRC-27 Advisory Committee scheduled meetings. The Commission's WRC-27 website (www.fcc.gov/wrc-27) contains the latest information on all scheduled meetings, meeting agendas, and WRC-27 Advisory Committee matters.

Below is additional IWG meeting information:

WRC-27 Advisory Committee

Schedule of Meetings of Informal Working Groups 1, 2, 3 and 4

Informal Working Group 1: Maritime, Aeronautical and Radar Services

Chair—Kim Kolb, kim.1.kolb@boeing.com (703) 220-2438

Vice Chair—Nicholas Shrout, njs@asri.aero (443) 951-0335

FCC Representatives: Louis Bell, louis.bell@fcc.gov, telephone: (202) 418-1641; Allen Yang, allen.yang@fcc.gov, telephone: (202) 418-0738; Dante Ibarra, dante.ibarra@fcc.gov, telephone: (202) 418-0610; Gregory Baker, Gregory.Baker@fcc.gov, (202) 919-0758

IWG-1—Meetings

Dates: July 23, 2025

Time: 11:00 a.m. ET-1:00 p.m. ET

https://fccgov.webex.com/fccgov/j.php?MTID=m3a4b99857fcb9dfec45fe0eb874e303c

Meeting number: 2821 920 1522

Password: 1234

Join by phone: +1-415-527-5035 US Toll

Access code: 2825 237 5291

Informal Working Group 2: Mobile and Fixed Services

Chair—Daudeline Meme, daudeline.meme@verizon.com, (202) 253-8362

Vice Chair—Reza Arefi, rezaa@apple.com, (202) 235-7298

FCC Representatives: Louis Bell, louis.bell@fcc.gov, telephone: (202) 418-1641; Dante Ibarra, dante.ibarra@fcc.gov, telephone: (202) 418-0610; Gregory Baker, Gregory.Baker@fcc.gov, (202) 919-0758

IWG-2—Meetings

Dates: July 23, 2025

Time: 1:00 p.m. ET-3:00 p.m. ET

https://fccgov.webex.com/fccgov/j.php?MTID=m789066c7cef5b8e56233f4bd47c2783b

Meeting number: 2825 237 5291

Password: 1234

Join by phone: +1-415-527-5035 US Toll

Access code: 2825 237 5291

Informal Working Group 3: Fixed-Satellite Service and Regulatory Matters

Chair—Alex Epshteyn, epshteyn@amazon.com, (703) 963-6136

Vice Chair—Ryan Henry, ryan.henry@ses.com, (202) 878-9360

FCC Representatives: Clay DeCell, clay.decell@fcc.gov, telephone: (202) 418-0803; Kathyrn Medley, kathyrn.medley@fcc.gov, telephone: (202) 418-1211; Eric Grodsky, eric.grodsky@fcc.gov, telephone: (202) 418-0563; Dante Ibarra, dante.ibarra@fcc.gov, telephone: (202) 418-0610; Gregory Baker, Gregory.Baker@fcc.gov, (202) 919-0758

IWG-3—Meetings

Dates: June 25, 2025

Time: 2:00 p.m. ET-4:00 p.m. ET

https://fccgov.webex.com/fccgov/j.php?MTID=m9327a1e66da8663dd359269232fe56e1

Meeting number: 2825 253 2293

Password: 1234

Join by phone: +1-415-527-5035 US Toll

Access code: 2825 253 2293

Dates: July 1, 2025

Time: 2:00 p.m. ET-4:00 p.m. ET

https://fccgov.webex.com/fccgov/j.php?MTID=mc209614063df80b512824f68f45a6a64

Meeting number: 2830 740 8273

Password: 1234

Join by phone: +1-415-527-5035 US Toll

Access code: 2830 740 8273

Dates: July 15, 2025

Time: 2:00 p.m. ET-4:00 p.m. ET

https://fccgov.webex.com/fccgov/j.php?MTID=mda6fd7c26d20148785934545cedeef9d

Meeting number: 2828 222 6540

Password: 1234

Join by phone: +1-415-527-5035 US Toll

Access code: 2828 222 6540

Dates: July 29, 2025

Time: 2:00 p.m. ET-4:00 p.m. ET

https://fccgov.webex.com/fccgov/j.php?MTID=m7e7196179d797672d64158a0f73edd3a

Meeting number: 2819 827 0470

Password: 1234

Join by phone: +1-415-527-5035 US Toll

Access code: 2819 827 0470

Informal Working Group 4: Mobile Satellite and Space Science Services

Chair—Damon Ladson, dladson@hwglaw.com, (202) 730-1315

Vice Chair—George John, george.john@hoganlovells.com, (202) 673-6989

FCC Representatives: Dante Ibarra, dante.ibarra@fcc.gov, telephone: (202) 418-0610; Clay DeCell, clay.decell@fcc.gov, telephone: (202) 418-0803; Gregory Baker, Gregory.Baker@fcc.gov, (202) 919-0758

IWG-4—Meetings

Dates: June 25, 2025

Time: 11:00 a.m. ET-1:00 p.m. ET

https://fccgov.webex.com/fccgov/j.php?MTID=meb10a5b0ad701deb5d6273740ba71b05

Meeting number: 2818 843 2257

Password: 1234

Join by phone: +1-415-527-5035 US Toll

Access code: 2818 843 2257

Dates: July 1, 2025

Time: 11:00 a.m. ET-1:00 p.m. ET

https://fccgov.webex.com/fccgov/j.php?MTID=m3dfa20591afc4a83013198455da0bbfe

Meeting number: 2831 343 8905

Password: 1234

Join by phone: +1-415-527-5035 US Toll

Access code: 2831 343 8905

Dates: July 15, 2025

Time: 11:00 a.m. ET-1:00 p.m. ET

https://fccgov.webex.com/fccgov/j.php?MTID=m2a0aea54e5d44e8dafeee0fb6efa70a1

Meeting number: 2828 851 3267

Password: 1234

Join by phone: +1-415-527-5035 US Toll

Access code: 2828 851 3267

Dates: July 29, 2025

Time: 11:00 a.m. ET-1:00 p.m. ET

https://fccgov.webex.com/fccgov/j.php?MTID=meca87d7cc27d9288a0fac646e615d2a4

Meeting number: 2829 397 0845

Password: 1234

Join by phone: +1-415-527-5035 US Toll

Access code: 2829 397 0845

Federal Communications Commission.
Nese Guendelsberger,
Deputy Office Chief, Office of International Affairs.

[FR Doc. 2025-10960 Filed 6-13-25; 8:45 am]

BILLING CODE 6712-01-P